DEPARTMENT OF THE INTERIOR

National Park Service

Final General Management Plan, Wilderness Management Plan, and Final Environmental Impact Statement; Apostle Islands National Lakeshore

AGENCY: National Park Service, Department of the Interior.

ACTION: Notice of Availability of the Final General Management Plan/Wilderness Management Plan/Final Environmental Impact Statement, Apostle Islands National Lakeshore.

SUMMARY: Pursuant to Section 102(2)(C) of the National Environmental Policy Act of 1969 (42 U.S.C. 4332(2)(C)), the National Park Service (NPS) announces the availability of the Final Environmental Impact Statement (FEIS) for the General Management Plan (GMP)/Wilderness Management Plan for Apostle Islands National Lakeshore, Wisconsin (Lakeshore).

DATES: The National Park Service will execute a Record of Decision (ROD) no sooner than 30 days following publication by the Environmental Protection Agency of the Notice of Availability of the Final Environmental Impact Statement.

ADDRESSES: Information will be available for public inspection online at http://parkplanning.nps.gov/apis, or by writing to Ms. Julie Van Stappen, Chief of Planning and Resource Management, Apostle Islands National Lakeshore, Route 1, Box 4, Bayfield, WI 54814; telephone: 715-779-3398, extension 211. Information also can be picked-up in person at the park's headquarters at 415 Washington Avenue, Bayfield, Wisconsin.

SUPPLEMENTARY INFORMATION: This document provides a framework for management of the Lakeshore and the Gaylord Nelson Wilderness, including its resources, visitors, and facilities, for the next 15-20 years. The document describes four alternatives for management of the park, including a no-action alternative, and analyzes the environmental impacts of those alternatives.

The NPS preferred alternative (Alternative 2) would focus on providing opportunities for more people to have an island experience. Additional transportation opportunities would be sought to encourage visitors to come to Sand, Basswood, and Oak islands. Some additional visitor facilities would be developed on these islands. There would be no change in the number of public docks in the park, but some docks would be relocated, improved, or expanded. The Bayfield visitor center would be moved closer to the water to improve contact with visitors and to be located with an operations center. The Little Sand Bay Visitor Center would be replaced with a visitor contact station. A new ranger station and accessible beach ramp would be developed at Meyers Beach. Two light stations would be restored or rehabilitated, similar to the Raspberry Island light station. The wilderness area would continue to be managed as it is now, with the exception of the Oak Island group campsite being removed and the site restored.

Other alternatives considered included the no action alternative (Alternative 1) where the NPS would continue to manage the Lakeshore as it has been managed since the 1989 general management plan was approved and the Gaylord Nelson Wilderness was designated in 2004. Alternative 3, which would focus on providing primitive, lake-oriented recreation and education opportunities, with some new and different opportunities provided. Under alternative 4, the emphasis would be on providing a greater variety of structured recreation opportunities for visitors. More visitor facilities would be provided in island non-wilderness areas, and mainland visitor opportunities would be expanded.

FOR FURTHER INFORMATION CONTACT: Ms. Julie Van Stappen, Chief of Planning and Resource Management Apostle Islands National Lakeshore, Route 1, Box 4, Bayfield, Wisconsin 54814, and by calling 715-779-3198, extension 211.

Dated: March 10, 2011.
George J. Turnbull,
Acting Regional Director, Midwest Region.

[FR Doc. 2011-11412 Filed 5-9-11; 8:45 am]

BILLING CODE 4312-97-P